DEPARTMENT OF LABOR

Employment and Training Administration

[TA-W-60,961; TA-W-60,961A]

Vytech Industries, Inc., Anderson, SC; Including An Employee Of Vytech Industries, Inc., Anderson SC, Located in Salisbury, MD; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on March 26, 2007, applicable to workers of VyTech Industries, Inc., Anderson, South Carolina. The notice was published in the Federal Register on April 10, 2007 (72 FR 17936).

At the request of the State agency, the Department reviewed the certification for workers of the subject firm. New information shows that a worker separation occurred involving an employee of the Anderson, South Carolina facility of VyTech Industries, Inc. who is located in Salisbury, Maryland.

Mr. Barry Seldomridge provided sales and engineering function services for the Anderson, South Carolina location of the subject firm.

Based on these findings, the Department is amending this certification to include an employee of the Anderson, South Carolina facility of VyTech Industries, Inc. who is located in Salisbury, Maryland.

The intent of the Department's certification is to include all workers of VyTech Industries, Inc., Anderson, South Carolina who were adversely affected by increased customer imports.

The amended notice applicable to TA-W-60,961 is hereby issued as follows:

All workers of VyTech Industries, Inc., Anderson, South Carolina (TA-W-60,961), including an employee in support of VyTech Industries, Inc., Anderson, South Carolina located in Salisbury, Maryland (TA-W-60,961A), who became totally or partially separated from employment on or after February 9, 2006, through March 26, 2009, are eligible to apply for adjustment assistance under Section 223 of the Trade Act of 1974 and are also eligible to apply for alternative trade adjustment assistance under Section 246 of the Trade Act of 1974.

Signed at Washington, DC this 28th day of August 2007.
Elliott S. Kushner,
Certifying Officer, Division of Trade Adjustment Assistance.

[FR Doc. E7-17474 Filed 9-4-07; 8:45 am]

BILLING CODE 4510-FN-P